ENVIRONMENTAL PROTECTION AGENCY

[FRL-8331-6]

Protection of Stratospheric Ozone: Notice of Data Availability—Changes in HCFC Consumption and Emissions from the U.S. Proposed Adjustments for Accelerating the HCFC Phaseout

Correction

In notice document E7-12446 beginning on page 35230 in the issue of Wednesday, June 27, 2007, make the following correction:

On page 35232, the table appearing under the heading “4. How is this action related to the U.S. phaseout of ozone-depleting substances?” should read as follows:

HCFC Phaseout Schedule
Comparison of the current Montreal Protocol schedule for Non-Article 5 Parties and United States phaseout schedules: Montreal Protocol: Year to be implemented | Comparison of the current Montreal Protocol schedule for Non-Article 5 Parties and United States phaseout schedules: Montreal Protocol: Percent reduction in consumption, using the cap as a baseline | Comparison of the current Montreal Protocol schedule for Non-Article 5 Parties and United States phaseout schedules: United States: Year to be implemented | Comparison of the current Montreal Protocol schedule for Non-Article 5 Parties and United States phaseout schedules: United States: Implementation of HCFC phaseout through Clean Air Act regulations
2004 | 35.0 | 2003 | No production and no importing of HCFC-141b.
2010 | 65.0 | 2010 | No production and no importing of HCFC-142b and HCFC-22, except for use in equipment manufactured before 1/1/2010.
2015 | 90.0 | 2015 | No production and no importing of any HCFCs, except for use as refrigerants in equipment manufactured before 1/1/2020.
2020 | 99.5 | 2020 | No production and no importing of HCFC-142b and HCFC-22.
2030 | 100.0 | 2030 | No production and no importing of any HCFCs.

[FR Doc. Z7-12446 Filed 7-16-07; 8:45 am]

BILLING CODE 1505-01-D

DEPARTMENT OF JUSTICE

Amended Notice of Lodging of Settlement Agreement Under the Comprehensive Environmental Response, Compensation, and Liability Act of 1980 (“CERCLA”)

Correction

In notice document 07-3270 beginning on page 37054 in the issue of Friday, July 6, 2007, make the following correction:

On page 37054, in the third column, in the first paragraph of the document, in the third line “2001” should read “2007”.

[FR Doc. C7-3270 Filed 7-16-07; 8:45 am]

BILLING CODE 1505-01-D

DEPARTMENT OF THE TREASURY

Internal Revenue Service

26 CFR Part 1

[TD 9329]

RIN 1545-BF26

Guidance Necessary to Facilitate Business Electronic Filing and Burden Reduction

Correction

In rule document E7-11148 beginning on page 32794 in the issue of Thursday, June 14, 2007, make the following correction:

PART 1—[CORRECTED]

On page 32807, in the third column, in the four lines above amendatory instruction Par. 46., the section heading is corrected to read as follows:

§§ 1.302-4, 1.338(h)(10)-1, 1.382-2T, 1.382-6, 1.382-8, 1.1502-13, 1.1502-32, 1.1502-92, 1.1502-94, 1.1502-95, 1.1563-3, and 1.6043-2

[FR Doc. Z7-11148 Filed 7-16-07; 8:45 am]

BILLING CODE 1505-01-D

DEPARTMENT OF THE TREASURY

Internal Revenue Service

26 CFR Part 54

[REG-143797-06]

RIN 1545-BF97

Employer Comparable Contributions to Health Savings Accounts Under Section 4980G

Correction

In proposed rule document E7-10529 beginning on page 30501 in the issue of Friday, June 1, 2007, make the following corrections:

PART 54—[CORRECTED]

1. On page 30503, in the second column, in amendatory instruction Par. 2., in the first line, “§ 54.4980g-0” should read “§ 54.4980G-0”.

2. On the same page, in the same column, in the same paragraph, in the third line, “§ 54.4980g-4” should read “§ 54.4980G-4”.

§ 54.4980G-0 [Corrected]

3. On the same page, in the third column, in § 54.4980G-0, in the first line, “§ 54.4980g-0” should read “§ 54.4980G-0”.

4. On the same page, in the same column, in the same section, in the third line, “§ 54.4980g-4” should read “§ 54.4980G-4”.

5. On the same page, in the same column, in § 54.4880G-4, in amendatory instruction Par. 3., in the first line, “§ 54.4980g-4” should read “§ 54.4980G-4”.

[FR Doc. Z7-10529 Filed 7-16-07; 8:45 am]

BILLING CODE 1505-01-D